DEPARTMENT OF TRANSPORTATION

Federal Highway Administration

Notice of Statute of Limitations on Claims; Notice of Final Federal Agency Actions on Proposed Highway in California

AGENCY: Federal Highway Administration (FHWA), DOT.

ACTION: Notice of Limitation on Claims for Judicial Review of Actions by the California Department of Transportation (Caltrans), pursuant to 23 U.S.C. 327, and Other Federal Agencies.

SUMMARY: The FHWA, on behalf of Caltrans, is issuing this notice to announce actions taken by Caltrans, and Other Federal Agencies that are final within the meaning of 23 U.S.C. 139(l)(1). These actions relate to a proposed highway project, the Schuyler Heim Bridge Replacement and SR-47 Expressway in the Port of Los Angeles and Port of Long Beach, in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before March 17, 2010. If the Federal law that authorizes judicial review of a claim provides a time period of less than 180 days for filing such claim, then that shorter time period still applies.

FOR FURTHER INFORMATION CONTACT: Karl Price, Senior Environmental Planner, Caltrans District 7, division of Environmental Planning, 100 S. Main Street, Los Angeles, CA 90012, during normal business hours from 9 a.m. to 5 p.m., telephone (213) 897-1839, e-mail Karl_Price@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, and certain other Federal agencies have taken final agency actions subject to 23 U.S.C. 139(l)(1) by approving the following highway project in the State of California: The Schuyler Heim Bridge Replacement and SR-47 Expressway in the Port of Los Angeles and Port of Long Beach, in the County of Los Angeles, State of California. When completed, the project will replace the seismically and structurally deficient lift Schuyler Heim Bridge with a new fixed-span bridge over the Cerritos Channel, and construct an elevated SR-47 Expressway that would begin on Terminal Island, at the intersection of SR-47 and Ocean Boulevard, extending north and onto the new fixed-span bridge, to Alameda Street, south of the intersection with Pacific Coast Highway. The project length is 3.1 miles. The purpose of the project is to provide a structurally and seismically safe vehicular connection along the critical north-south corridor between Terminal Island and the mainland that can remain in service following a major earthquake to ensure that ground and vessel transportation are maintained. The purpose of the proposed project also is to provide a high-capacity alternative route for traffic between Terminal Island and I-405 that would reduce traffic congestion on local surface streets (between Terminal Island and Pacific Coast Highway), as well as on I-110 and I-710; and improve safety by providing a limited-access route between Terminal Island and I-405 that would bypass at-grade railroad crossings and signalized intersections. The actions by the Federal agencies, and the laws under which such actions were taken, are described in the Final Environmental Impact Statement (FEIS) for the project, approved on May 12, 2009, in the Record of Decision (ROD) issued on August 12, 2009, and in other documents in the Caltrans project records. The FEIS, ROD, and other project records are available by contacting Caltrans at the addresses provided above. The Final EIS and ROD can be viewed and downloaded from the project Web site at http://www.dot.ca.gov/dist07/resources/envdocs, and at http://www.acta.org. This notice applies to all Federal agency decisions as of the issuance date of this notice and all laws under which such actions were taken, including but not limited to:

1. General: National Environmental Policy Act (NEPA) [42 U.S.C. 4321-4351].

2. Safe, Accountable, Flexible, Efficient Transportation Equity Act: A Legacy for Users (SAFETEA-LU).

3. Air: Clean Air Act [42 U.S.C. 7401-7671(q)].

4. Migratory Bird Treaty Act [16 U.S.C. 703-712].

5. Historic and Cultural Resources: Section 106 of the National Historic Preservation Act of 1966, as amended [16 U.S.C. 470(f) et seq.].

6. Clean Water Act (section 401) [33 U.S.C. 1251-1377].

7. Federal Endangered Species Act of 1973 (16 U.S.C. 1531-1543).

8. Rivers and Harbors Appropriation Act of 1899, Sections 9 and 10.

9. Executive Order 11990, Protection of Wetlands.

10. Executive Order 11988, Floodplain Management.

11. Coastal Zone Management Act.

12. Executive Order 12898—Environmental Justice.

13 Department of Transportation Act of 1966, Section 4(f) [49 U.S.C. 303].

14. E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: September 1, 2009.
Karen Bobo,
Director, Local Program, Federal Highway Administration.

[FR Doc. E9-22545 Filed 9-17-09; 8:45 am]

BILLING CODE P